AGENCY FOR INTERNATIONAL DEVELOPMENT

Notice of Public Information Collections Being Reviewed by the U.S. Agency for International Development: Comments Requested

Summary: U.S. Agency for International Development (USAID) is making efforts to reduce the paperwork burden. USAID invites the general public and other Federal agencies to take this opportunity to comment on the following proposed and/or continuing information collections as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

Dates: Submit comments on or before March 20, 2006.

For Further Information Contact: Beverly Johnson, Bureau for Management, Office of Administrative Services. Information and Records Division, U.S. Agency for International Development, Room 2.07-106, RRB, Washington, DC 20523, (202) 712-1365 or via e-mail bjohnson@usaid.gov.

Supplementary Information:

OMB No.: OMB 412-NEW.

Form No.: N/A.

Title: Mentor-Protégé Program Application.

Type of Review: New Information Collection.

Purpose: The U.S. Agency for International Development (USAID) requests comment on its Mentor-Protégé Program Application. The form will be used to apply for participation in the USAID Mentor-Protégé Program. Firms interested in becoming a mentor firm must apply in writing to the USAID/OSDBU. The application shall be evaluated by the nature and extent of technical and managerial support proposed as well as the extent of financial assistance in the form of equity investment, loans, joint-venture support, and traditional subcontracting support proposed.

The Mentor-Protégé agreement contains:

(1) Name, address, phone, and E-mail of mentor and protégé firm(s) and a point of contact within both firms who will oversee the agreement;

(2) Procedures for the mentor's voluntary withdrawal from the program including notification of the protégé firm and the USAID OSDBU. Withdrawal notification must be in writing, at least 30 days in advance of the mentor's intent to withdraw.

(3) Procedures for a protégé's voluntary withdrawal from the program. The protégé shall notify the mentor firm in writing at least 30 days in advance of the protégé firm's intent to voluntarily terminate the Mentor-Protégé agreement. The mentor shall notify OSDBU and the contracting officer immediately upon receipt of notice from the protégé;

(4) A description of the type of developmental program that will be provided by the mentor firm to the protégé firm, to include a description of the subcontract work, a schedule for providing assistance, and criteria for evaluation of the protégé's developmental success;

(5) A listing of the number and types of subcontracts to be awarded to the protégé firm;

(6) Program participation term;

(7) Termination procedures;

(8) Plan for accomplishing work should the agreement be terminated; and

(9) Other terms and conditions, as appropriate.

Review of Agreement

(1) OSDBU will review the information to ensure the mentor and protégé are both eligible and the information that is required in this Mentor-Protégé Program Guide is included. OSDBU may consult with the Contracting Officer on the adequacy of the proposed mentor-protégé arrangement, and its review will be completed no later than 30 calendar days after receipt by OSDBU.

(2) Upon completion of the review, the mentor may implement the developmental assistance program.

(3) The agreement defines the relationship between the mentor and protégé firms only. The agreement itself does not create any privity of contract between the mentor or protégé and the USAID.

(a) An approved agreement will be incorporated into the mentor or protégé firm's contract with the USAID. It should be added to the subcontracting plan of the contract.

(b) If the application is disapproved, the mentor may provide additional information for reconsideration. OSDBU will complete review of any supplemental material no later than 30 days after receipt. Upon finding deficiencies the USAID considers correctable, OSDBU will notify the mentor and request information regarding correction of deficiencies to be provided within 30 days.

Annual Reporting Burden:

Total annual responses: 20.

Total annual hours requested: 5.

Dated: January 10, 2006.
Joanne Paskar,
Chief, Information and Records Division, Office of Administrative Services, Bureau for Management.

[FR Doc. 06-448 Filed 1-17-06; 8:45 am]

BILLING CODE 6116-01-M